DEPARTMENT OF HEALTH AND HUMAN SERVICES

Centers for Disease Control and Prevention

[60Day-04-28]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project: Active Surveillance of Ciguatera in Culebra, Puerto Rico—New—National Center for Environmental Health (NCEH), Centers for Diseases Control and Prevention (CDC).

Ciguatera fish poisoning (CFP) is a serious health threat to people in Puerto Rico. Many finfish that live in the island's coral reefs carry ciguatoxin. When people consume these finfish, they can get CFP, a condition that causes gastrointestinal and neurological symptoms. To quantify the health burden caused by CFP, the local department of health tallies the number of cases of CFP reported by health care providers on the island. A recent evaluation of this passive surveillance system determined that the majority of CFP cases that occur on the island are missed. To accurately quantify the health threat of CFP to the population in Puerto Rico, the National Center for Environmental Health, Centers for Disease Control and Prevention, in conjunction with the Puerto Rico Department of Health will conduct active surveillance for CFP for 12 months in Puerto Rico.

Our active surveillance system will quantify the public health burden of CFP by determining the incidence, risk factors, and economic effect of CFP in Culebra, Puerto Rico. Every 4 months for 1 year, we will administer a questionnaire to each of the 600 households in Culebra. The questionnaire elicits information on household fish consumption and identifies individuals who have developed symptoms of CFP. When we identify individuals having symptoms compatible with CFP, we will administer a second questionnaire. This second questionnaire explores personal risk factors, medical management, and costs incurred while the individuals were ill with CFP. To confirm the presence of ciguatoxin in affected areas, we will collect fish from local reefs, fish vendors, and any appropriate leftover fish from people with CFP. The fish will be analyzed by the U.S. Food and Drug Administration.

Ultimately, the information provided by this study will aid the Puerto Rico Department of Health in controlling the health threat of CFP. Quantifying the incidence, risk factors, and economic burden of CFP will guide the development preventive strategies. There are no costs to respondents.

Respondents | Number of respondents | Number of responses per respondent | Average burden per response (in hours) | Total burden (in hours)
Household survey | 600 | 3 | 20/60 | 600
Individual survey | 100 | 1 | 30/60 | 50
Total |  |  |  | 650

Dated: February 11, 2004.
Alvin Hall,
Director, Management Analysis and Services Office, Centers for Disease Control and Prevention.

[FR Doc. 04-3684 Filed 2-19-04; 8:45 am]

BILLING CODE 4163-18-P